GENERAL SERVICES ADMINISTRATION

41 CFR Part 102-117

[Notice-MA-2025-09; Docket No. 2025-0002; Sequence 7]

Federal Management Regulation; Updating Transportation Management, With Diversity, Equity, Inclusion, and Accessibility Language; Planned Rescission

AGENCY: Office of Government-wide Policy (OGP), General Services Administration (GSA).

ACTION: Notification of upcoming rescission of FMR Case 2024-03.

SUMMARY: GSA plans to issue a final rule rescinding Federal Management Regulation (FMR) Case 2024-03, “Federal Management Regulation; Updating Transportation Management, With Diversity, Equity, Inclusion, and Accessibility Language,” published on November 26, 2024.

DATES: April 16, 2025.

ADDRESSES: Those interested can view FMR Case 2024-03 at https://www.regulations.gov/document/GSA-FMR-2024-0015-0001.

FOR FURTHER INFORMATION CONTACT: For clarification of content please contact Mr. Sean Lambert, Office of Government-wide Policy, Office of Asset and Transportation Management, at 771-233-2475, or by email at gsa-ogp-transportationpolicy@gsa.gov. Please cite Notice of Rescission of FMR Case 2024-03.

SUPPLEMENTARY INFORMATION: GSA plans to rescind FMR Case 2024-03 (FR Doc. 2024-27565 (89 FR 93198, November 26, 2024)) consistent with Executive Order (E.O.) 14148 of January 20, 2025, “Initial Rescissions of Harmful Executive Orders and Actions,” and E.O. 14168 of January 20, 2025, “Defending Women from Gender Ideology Extremism and Restoring Biological Truth to the Federal Government.” GSA will amend the FMR to ensure compliance with the current Administration's priorities, to remove unnecessary language, and to revert language back to sex-specific pronouns.

Larry Allen,
Associate Administrator, Office of Government-wide Policy.

[FR Doc. 2025-06279 Filed 4-15-25; 8:45 am]

BILLING CODE 6820-14-P